DEPARTMENT OF THE INTERIOR

Fish and Wildlife Service

[FWS-HQ-IA-2014-N142; FXIA16710900000-145-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
14237B | Houston Zoo | 78 FR 67389; November 12, 2013 | March 11, 2014.
18975B | Wildlife Conservation Society | 78 FR 73877; December 9, 2013 | February 25, 2014.
677648 | University of Kansas Biodiversity Institute | 78 FR 76171; December 16, 2013 | May 30, 2014.
25430B | Edward Stehmeyer | 79 FR 8203; February 11, 2014 | April 11, 2014.
28374B | Villanova University | 79 FR 10547; February 25, 2014 | April16, 2014.
24137B | Minnesota Zoological Gardens | 79 FR 10547; February 25, 2014 | May 30, 2014.
26837B | JoAnn Holland | 79 FR 10457; February 25, 2014 | June 23, 2014.
28148B | Doyle Graham | 79 FR 12215; March 4, 2014 | June 23, 2014.
22125B | Los Angeles Zoo | 79 FR 14528; March 14, 2014 | June 26, 2014.
17469B | Zoological Society of San Diego | 79 FR 14528; March 14, 2014 | May 29, 2014.
22194B, 21674B, 21676B, 21677B, 21679B, and 21680B | Feld Entertainment | 79 FR 15768; March 21, 2014 | June 3, 2014.
29286B | Wesley Reeves | 79 FR 15768; March 21, 2014 | May 2, 2014.
29013B | Colin Cooper | 79 FR 18575; April 2, 2014 | May 12, 2014.
31023B | Paul Jackson | 79 FR 24445; April 30, 2014 | June 2, 2014.
31433B | Zeev Nederman | 79 FR 24445; April 30, 2014 | June 2, 2014.
32376B | Dallas Zoo | 79 FR 24445; April 30, 2014 | June 16, 2014.
717994 | City of San Jose dba Happy Hollow Zoo | 79 FR 24445; April 30, 2014 | June 20, 2014.
738517 | Roger Williams Park Zoo | 79 FR 24445; April 30, 2014 | June 20, 2014.
171815 | Jeffrey Kengor | 79 FR 24445; April 30, 2014 | June 20, 2014.
28506B | University of Hawaii at Manoa | 79 FR 24445; April 30, 2014 | June 26, 2014.
230437 | Virginia Institute of Marine Science | 79 FR 24445; April 30, 2014 | June 30, 2014.
34875B | Roger Oerter | 79 FR 26452; May 8, 2014 | June 23, 2014.
35981B | Phillip White | 79 FR 28941; May 20, 2014 | June 23, 2014.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2014-16134 Filed 7-9-14; 8:45 am]

BILLING CODE 4310-55-P